ENVIRONMENTAL PROTECTION AGENCY

40 CFR Part 52

[EPA-R05-OAR-2013-0780; FRL-9924-22-Region 5]

Approval and Promulgation of Air Quality Implementation Plans; Indiana; Minor NSR for Title V and FESOP Sources

AGENCY: Environmental Protection Agency.

ACTION: Final rule.

SUMMARY: The Environmental Protection Agency (EPA) is approving revisions to Indiana's minor new source review (NSR) construction permit rule. The rule applies to construction of new units or modifications of existing units at sources subject to title V and Federally enforceable state operating permit requirements. This rule replaces the previous state implementation plan (SIP) minor source construction permit rule for Indiana.

DATES: This final rule is effective on April 15, 2015.

ADDRESSES: EPA has established a docket for this action under Docket ID No. EPA-R05-OAR-2013-0780. All documents in the docket are listed on the www.regulations.gov Web site. Although listed in the index, some information is not publicly available, i.e., Confidential Business Information (CBI) or other information whose disclosure is restricted by statute. Certain other material, such as copyrighted material, is not placed on the Internet and will be publicly available only in hard copy form. Publicly available docket materials are available either electronically through www.regulations.gov or in hard copy at the Environmental Protection Agency, Region 5, Air and Radiation Division, 77 West Jackson Boulevard, Chicago, Illinois 60604. This facility is open from 8:30 a.m. to 4:30 p.m., Monday through Friday, excluding Federal holidays. We recommend that you telephone Sam Portanova, Environmental Engineer, at (312) 886-3189 before visiting the Region 5 office.

FOR FURTHER INFORMATION CONTACT: Sam Portanova, Environmental Engineer, Air Permits Section, Air Programs Branch (AR-18J), Environmental Protection Agency, Region 5, 77 West Jackson Boulevard, Chicago, Illinois 60604, (312) 886-3189, portanova.sam@epa.gov.

SUPPLEMENTARY INFORMATION: Throughout this document whenever “we,” “us,” or “our” is used, we mean EPA. This supplementary information section is arranged as follows:

I. What is being addressed in this document?

II. What comments did EPA receive?

III. Technical Corrections to the State Rule

IV. What action is EPA taking?

V. Incorporation by Reference

VI. Statutory and Executive Order Reviews

I. What is being addressed in this document?

On November 7, 2013, the Indiana Department of Environmental Management (IDEM) submitted a SIP revision request to EPA for minor NSR construction permit rules. EPA last approved Indiana's minor construction permit rule (326 IAC 2-1) on October 7, 1994 (59 FR 51108). In this action, EPA is approving amendments to 326 IAC 2-7-10.5(a), (c) through (j), (l), and (m), and to 326 IAC 2-8-11.1 as revisions to Indiana's SIP. These provisions do not apply to permitting actions that trigger major prevention of significant deterioration (PSD) or nonattainment NSR requirements. 326 IAC 2-7-10.5 and 326 IAC 2-8-11.1 replace 326 IAC 2-1, which has been repealed in the state rules, as the minor NSR construction permit rules in the Indiana SIP. EPA proposed approval of these rules on January 5, 2015 (80 FR 201). EPA previously approved 326 IAC 2-7-10.5(b) and (k) on January 17, 2014 (79 FR 3120).

II. What comments did EPA receive?

The public comment period on the proposed approval of Indiana's SIP revision ended on February 4, 2015. EPA did not receive any comments on the proposed approval of this SIP revision.

III. Technical Corrections to the State Rule

On January 26, 2015, IDEM submitted revisions to 326 IAC 2-7-10.5(f)(2)(C) and 326 IAC 2-8-11.1(d)(4) that contained typographical corrections to the original rules. These corrections were published in the Indiana Register on December 25, 2013, and were effective January 11, 2014. The revision to 326 IAC 2-7-10.5(f)(2)(C) corrects grammatical errors and the revision to 326 IAC 2-8-11.1(d)(4) corrects a citation error. The revisions do not affect the requirements or substance of this rule.

IV. What action is EPA taking?

EPA is approving Indiana's minor source construction permit rule in 326 IAC 2-7-10.5(a), (c) through (j), (l), and (m), and 326 IAC 2-8-11.1. EPA has determined that the emission thresholds and permitting requirements discussed above satisfy the requirements of 40 CFR 51.160 and 51.161. EPA is not taking action on 326 IAC 2-7-10.5(b) and (k) because these portions of the state's rule have already been approved into Indiana's SIP.

V. Incorporation by Reference

In this rule, EPA is finalizing regulatory text that includes incorporation by reference. In accordance with requirements of 1 CFR 51.5, EPA is finalizing the incorporation by reference of the Indiana Regulations described in the amendments to 40 CFR part 52 set forth below. EPA has made, and will continue to make, these documents generally available electronically through www.regulations.gov and/or in hard copy at the appropriate EPA office (see the ADDRESSES section of this preamble for more information).

VI. Statutory and Executive Order Reviews

Under the Clean Air Act (CAA), the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a significant regulatory action subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, the SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by May 15, 2015. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2)).

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: February 27, 2015.
Susan Hedman,
Regional Administrator, Region 5.

40 CFR part 52 is amended as follows:

PART 52—APPROVAL AND PROMULGATION OF IMPLEMENTATION PLANS

1. The authority citation for part 52 continues to read as follows:

Authority: 42 U.S.C. 7401 et seq.

2. In § 52.770 the table in paragraph (c) is amended by:

a. Revising the entry in “Article 2. Permit Review Rules”, “Rule 7. Part 70 Permit Program” for 2-7-10.5 “Part 70 permits; source modifications”; and

b. Revising the entry in “Article 2. Permit Review Rules”, “Rule 8. Federally Enforceable State Operating Permit Program” for 2-8-11.1 “Permit revisions”.

The revisions read as follows:

§ 52.770 Identification of plan.

* * * * *

(c) * * *

EPA-Approved Indiana Regulations
Indiana citation | Subject | Indiana effective date | EPA approval date | Notes
* * * * * * *
Article 2. Permit Review Rules
* * * * * * *
Rule 7. Part 70 Permit Program
2-7-10.5 | Part 70 permits; source modifications | 10/26/2013 | 3/16/2015 [insert Federal Register citation] | Indiana made typographical corrections to (f)(2)(C) on 1/11/2014.
Rule 8. Federally Enforceable State Operating Permit Program
* * * * * * *
2-8-11.1 | Permit revisions | 10/26/2013 | 3/16/2015 [insert Federal Register citation] | Indiana made typographical corrections to (d)(4) on 1/11/2014.
* * * * * * *

* * * * *

[FR Doc. 2015-05838 Filed 3-13-15; 8:45 am]

BILLING CODE 6560-50-P